DEPARTMENT OF COMMERCE

National Oceanic and Atmospheric Administration

[RTID 0648-XX051]

Magnuson-Stevens Act Provisions; Fisheries of the Northeastern United States; Atlantic Herring Fishery; Approved Industry-Funded Monitoring Service Providers

AGENCY: National Marine Fisheries Service (NMFS), National Oceanic and Atmospheric Administration (NOAA), Commerce.

ACTION: Notice of approved industry-funded monitoring service providers.

SUMMARY: NMFS has approved four companies to provide industry-funded monitoring services (observing, at-sea monitoring, and/or portside sampling) to Atlantic herring vessels during industry-funded monitoring years 2020-2021 (April 1, 2020-March 31, 2022). Monitoring coverage regulations require that any entities seeking to provide monitoring services, including services for industry-funded monitoring programs, must apply for and obtain approval from NMFS. This action will allow Atlantic herring vessels to secure industry-funded monitoring services from any of the approved providers during 2020-2021.

ADDRESSES: The list of NMFS-approved industry-funded monitoring service providers is available at: https://www.fisheries.noaa.gov/new-england-mid-atlantic/fisheries-observers/industry-funded-monitoring-northeast, or by sending a written request to: 55 Great Republic Drive, Gloucester, MA 01930, Attn: Maria Fenton.

FOR FURTHER INFORMATION CONTACT: Maria Fenton, Fishery Management Specialist, (978) 281-9196.

SUPPLEMENTARY INFORMATION:

Background

The New England Industry-Funded Monitoring (IFM) Omnibus Amendment created an IFM program in the Atlantic herring fishery and set a 50-percent monitoring coverage target on vessels issued an All Areas (Category A) or Areas 2/3 (Category B) limited access Atlantic herring permit. This 50-percent coverage target includes a combination of Standardized Bycatch Reporting Methodology (SBRM) coverage and IFM coverage. Prior to any trip declared into the herring fishery, representatives for vessels issued Category A or B permits are required to notify NMFS for monitoring coverage. If NMFS informs a vessel that a trip is selected for IFM coverage, the vessel is required to obtain at-sea monitoring coverage from a NMFS-approved service provider for that trip. Midwater trawl vessels may also obtain an IFM observer coverage in order to fish in a Groundfish Closed Area on a trip that was not selected for SBRM or IFM coverage.

Some midwater trawl herring vessels may enroll in an Exempted Fishing Permit (EFP) to use an electronic monitoring and portside sampling program in lieu of carrying a human at-sea monitor to fulfill the requirements of the IFM Amendment. If NMFS informs a vessel participating in the EFP that a trip has been selected for IFM coverage, that vessel would be required to obtain portside sampling services for that trip. Vessels participating in the EFP could also obtain portside sampling coverage in lieu of carrying an observer in order to fish in a Groundfish Closed Area on a trip that was not selected for SBRM or IFM coverage.

Monitoring Service Provider Approval Process

Monitoring coverage regulations at § 648.11(h)(1) require that any entities seeking to provide monitoring services, including services for IFM programs, must apply for and obtain approval from NMFS. The regulations at § 648.11(h)(4) describe the criteria for evaluating and approving a monitoring services provider application. NMFS approves service providers based on: (1) Completeness of the applications; and (2) determination of the applicant's ability to perform the duties and responsibilities of a monitoring service provider, as demonstrated in the application. Once approved, service providers must meet the requirements, conditions, and responsibilities specified at § 648.11(h)(5) and (6) in order to maintain eligibility. NMFS must notify service providers, in writing, if approval is withdrawn for any reason.

Approved Industry-Funded Monitoring Service Providers

NMFS received complete applications from four companies to provide IFM services to Atlantic herring vessels during IFM years 2020-2021: Fathom Resources, LLC; A.I.S., Inc.; East West Technical Services LLC; and Saltwater Inc. We approved all four companies to provide IFM services to Atlantic herring vessels during IFM years 2020-2021 because they have met the application requirements and demonstrated their ability to perform the duties and responsibilities of a monitoring service provider. Fathom Resources, LLC; A.I.S., Inc.; and East West Technical Services LLC are currently approved to provide at-sea monitoring services for the Northeast multispecies fishery and industry-funded observer services for the Atlantic sea scallop fishery. A.I.S. Inc. and Saltwater Inc. are currently permitted to provide observer services for the North Pacific Observer Program. NMFS will closely monitor the performance of approved providers and will be prepared to withdraw approval during the current approval term, or disapprove a future application to provide monitoring services, if it is determined that monitoring provider requirements, conditions, and responsibilities are not being met.

Table 1—Companies Approved To Provide IFM Services to Atlantic Herring Vessels During IFM Years 2020-2021
Provider | Approved IFM service(s) | Address | Phone | Fax | Website
Fathom Resources, LLC | Industry-funded observer, at-sea monitoring, portside sampling | 855 Aquidneck Ave, Unit 9, Middletown, RI 02842 | 508-990-0997 | 508-991-7372 | www.fathomresources.com.
A.I.S., Inc | Industry-funded observer, at-sea monitoring, portside sampling | 540 Hawthorn St, North Dartmouth, MA 02747 | 508-990-9054 | 508-990-9055 | www.aisobservers.com.
East West Technical Services LLC | At-sea monitoring, portside sampling | PO Box 643864, Vero Beach, FL 32964 | 860-910-4957 | 860-223-6005 | www.ewts.com.
Saltwater Inc | Portside sampling | 733 N St, Anchorage, AK 99501 | 907-276-3241 | 907-258-5999 | www.saltwaterinc.com.

Authority: 16 U.S.C. 1801 et seq.

Dated: April 9, 2020.
Hélène M.N. Scalliet,
Acting Director, Office of Sustainable Fisheries, National Marine Fisheries Service.

[FR Doc. 2020-07859 Filed 4-13-20; 8:45 am]

BILLING CODE 3510-22-P